DEPARTMENT OF EDUCATION

President's Board of Advisory on Historically Black Colleges and Universities

AGENCY: President's Board of Advisors on Historically Black Colleges and Universities, Education.

ACTION: Notice of meeting.

SUMMARY: This notice sets forth the schedule and proposed agenda of an upcoming meeting of the President's board of Advisors on Historically Black Colleges and Universities (Board). The notice also describes the functions of the Board. Notice of this meeting is required by section 10(a)(2) of the Federal Advisory Committee Act and is intended to notify the pubic of their opportunity to attend.

DATES: Wednesday, May 28, 2003.

TIME: 8 a.m.-4 p.m.

ADDRESSES: The Board will meet in Washington, DC the Wyndham Hotel on 1400 M Street.

FOR FURTHER INFORMATION CONTACT: Ambassador Leonard H.O. Spearman, Executive Director, or Beverly Ward, Special Assistant, White House Initiative on Historically Black Colleges and Universities, 400 Maryland Ave., SW., Washington, DC 20202; telephone: (202) 502-9700.

SUPPLEMENTARY INFORMATION: The President's Board of Advisors on Historically Black Colleges and Universities is established under Executive Order 13256 dated February 12, 2002. The Board is established (a) to report to the President annually on the results of the participation of historically black colleges and universities (HBCUs) is Federal programs, including recommendations on how to increase the private sector role, including the role of private foundations, in strengthening these institutions, with particular emphasis on enhancing institutional planning and development, strengthening fiscal stability and financial management, and improving institutional infrastructure, including the use of technology, to ensure the long-term viability and enhancement of these institutions; (b) to advise the President and the Secretary of Education (Secretary) on the needs of HBCUs in the areas of infrastructure, academic programs, and faculty and institutional development; (c) to advise the Secretary in the preparation of an annual Federal plan for assistance to HBCUs in increasing their capacity of participate in Federal programs; (d) to provide the President with an annual progress report on enhancing the capacity of HBCUs to serve their students; and (e) to develop, in consultation with the Department of Education and other Federal agencies, a private sector strategy to assist HBCUs.

The purpose of the meeting is to address administrative issues, such as annual ethics training.

Individuals who will need accommodations for a disability in order to attend the meeting (e.g., interpreting services, assistive listening devices, or materials in alternative format) should notify Barbara Lindler at (202) 502-7904 by no later than May 16, 2003. We will attempt to meet requests for accommodations after this date but cannot guarantee their availability. The meeting site is accessible to individuals with disabilities.

An opportunity for public comment is available on May 28, 2003 between 3 p.m. and 4 p.m. Those members of the public interested in submitting written comments may do so at the address indicated above by Friday, May 25, 2003.

Records are kept of all Board proceedings and are available for public inspection at the office of the White House Initiative on Historically Black Colleges and Universities from the hours of 9 a.m. to 5 p.m.

William Hansen,
Deputy Secretary, U.S. Department of Education.

[FR Doc. 03-12530 Filed 5-16-03; 8:45 am]

BILLING CODE 4000-01-M